DEPARTMENT OF COMMERCE

Foreign-Trade Zones Board

[S-113-2015]

Approval of Subzone Status Haier America Trading, LLC Olive Branch, Mississippi

On July 29, 2015, the Executive Secretary of the Foreign-Trade Zones (FTZ) Board docketed an application submitted by the Northern Mississippi FTZ, Inc., grantee of FTZ 262, requesting subzone status subject to the existing activation limit of FTZ 262, on behalf of Haier America Trading, LLC, in Olive Branch, Mississippi.

The application was processed in accordance with the FTZ Act and Regulations, including notice in the Federal Register inviting public comment (80 FR 45943, August 3, 2015). The FTZ staff examiner reviewed the application and determined that it meets the criteria for approval.

Pursuant to the authority delegated to the FTZ Board's Executive Secretary (15 CFR Sec. 400.36(f)), the application to establish Subzone 262B is approved, subject to the FTZ Act and the Board's regulations, including Section 400.13, and further subject to FTZ 262's 680-acre activation limit.

Dated: December 16, 2015.
Andrew McGilvray,
Executive Secretary.

[FR Doc. 2015-32163 Filed 12-21-15; 8:45 am]

BILLING CODE 3510-DS-P